DEPARTMENT OF ENERGY

Federal Energy Regulatory Commission

[Docket No. EC02-22-000, et al.]

UtiliCorp United Inc., et al.; Electric Rate and Corporate Regulation Filings

November 16, 2001.

Take notice that the following filings have been made with the Commission:

1. UtiliCorp United Inc.

[Docket No. EC02-22-000]

Take notice that on November 13, 2001, UtiliCorp United Inc. filed with the Federal Energy Regulatory Commission (Commission) an application for approval pursuant to section 203 of the Federal Power Act and section 33 of the Commission's regulations for authorization to reacquire the approximately 20 percent of the shares of Aquila, Inc. held by the public.

Comment date: December 4, 2001, in accordance with Standard Paragraph E at the end of this notice.

2. Mirant New England, LLC, Mirant Kendall, LLC, Mirant Canal, LLC

[Docket Nos. ER01-1274-002, ER01-1271-002, ER01-1268-002]

Take notice that on November 13, 2001, Mirant New England, LLC, Mirant Kendall, LLC and Mirant Canal, LLC (together, the Mirant New England Companies) tendered for filing with the Federal Energy Regulatory Commission (Commission) an updated market-power analysis in compliance with the requirement of the order granting them authority to make power sales at market-based rates.

Comment date: December 4, 2001, in accordance with Standard Paragraph E at the end of this notice.

3. Trans-Elect, Inc., Michigan Transco Holdings, Limited Partnership, Consumers Energy Company, Michigan Electric Transmission Company

[Docket Nos. EC02-23-000 and ER02-320-000]

Take notice that on November 13, 2001, Consumers Energy Company (Consumer) and Michigan Electric Transmission Company (METC), and Trans-Elect, Inc. (Trans-Elect) and Michigan Transco Holdings, Limited Partnership (Michigan Transco Holdings LP) (collectively, Applicants) filed with the Federal Energy Regulatory Commission (FERC) a joint application pursuant to section 203 of the Federal Power Act (FPA) for authorization of a disposition of jurisdictional facilities whereby (1) Consumers will merge METC with and into Michigan Transco LLC, a limited liability company; and (2) Consumers will sell and transfer and Michigan Transco Holdings LP will purchase and accept all of Consumers' membership interests in Michigan Transco LLC. As a result of this transaction, Michigan Transco Holdings LP will acquire all of Consumers' membership interests in Michigan Transco LLC, including all interests in the transmission assets and related tariffs, contracts, books and records previously acquired by METC from Consumers pursuant to Commission authorization, and all other interests acquired by or assigned to METC and/or Michigan Transco LLC prior to the closing date.

Trans-Elect and Michigan Transco Holdings LP also seek approval pursuant to FPA section 205 for Michigan Transco LLC to provide open access transmission service pursuant to the rates, terms and conditions as set forth in the application.

Comment date: December 4, 2001, in accordance with Standard Paragraph E at the end of this notice.

4. FPL Energy Main Hydro, Inc.,FPL Energy Mason, LLC FPL Energy Wyman, LLC FPL Energy Wyman IV, LLC FPL Energy Power Marketing, Inc.

[Docket Nos. ER98-3511-005, ER98-3562-005, ER98-3563-005, ER98-3564-005, and ER98-3566-005]

Take notice that on November 9, 2001, FPL Energy Maine Hydro, Inc. (Maine Hydro), FPL Energy Mason, LLC (Mason), FPL Energy Wyman, LLC (Wyman), FPL Energy Wyman IV, LLC (Wyman IV), and FPL Energy Power Marketing Inc. (collectively, FPL Maine) filed with the Federal Energy Regulatory Commission (Commission), an updated market power study in accordance with the order issued November 12, 1998 in Docket Nos. ER98-3511, et. al., accepting for filing FPL Maine's market-based rate tariffs.

Comment date: November 30, 2001, in accordance with Standard Paragraph E at the end of this notice.

5. Carolina Power & Light Company and Florida Power Corporation

[Docket No. ER01-1807-006]

Take notice that on November 14, 2001, Carolina Power & Light Company (CP&L), tendered for filing with the Federal Energy Regulatory Commission (Commission) revised tariff sheets under its FERC Electric Tariff, Third Revised Volume No. 3, in compliance with the Commission's order issued on October 15, 2001, in Carolina Power & Light Co. and Florida Power Corp., 97 FERC ¶ 61,048.

Copies of the filing were served on the parties listed in the Commission's official service list in these proceedings as well as the appropriate state commissions. CP&L will post the revised Tariffs on its OASIS.

Comment date: December 5, 2001, in accordance with Standard Paragraph E at the end of this notice.

6. Duke Electric Transmission

[Docket No. ER01-2469-001]

Take notice that on November 13, 2001, Duke Energy Corporation filed with the Federal Energy Regulatory Commission (Commission) its revised rate schedule in accordance with the Commission Order dated August 28, 2001.

Comment date: December 4, 2001, in accordance with Standard Paragraph E at the end of this notice.

7. Alcoa Power Generating, Inc.

[Docket No. ER01-2501-007]

Take notice that, on November 13, 2001, Alcoa Power Generating, Inc. (APGI) tendered for filing with the Federal Energy Regulatory Commission (Commission) a revised rate schedule for the 1964 Pacific Northwest Coordination Agreement (PNCA). APGI is revising its PNCA Rate Schedule to comply with Order No. 614 formatting requirements and to include updated 2000-2001 PNCA Operating Procedures pursuant to the Commission's October 1, 2001 order in Docket No. ER01-2501-000.

Comment date: December 4, 2001, in accordance with Standard Paragraph E at the end of this notice.

8. Energy Group of America, Inc.

[Docket No. ER01-2694-000]

Take notice that on November 9, 2001, the Energy Group of America, Inc. resubmitted for filing with the Federal Energy Regulatory Commission (Commission) a Substitute First Revised Rate Schedule FERC No. 1 which has been modified to incorporate the designation information required by Order No. 614.

The Energy Group of America, Inc. states that a copy of this filing has been served on each person designated on the official service list for the above proceeding.

Comment date: November 30, 2001, in accordance with Standard Paragraph E at the end of this notice.

9. Pacific Gas and Electric Company

[Docket No. ER02-4-000]

Take notice that on November 15, 2001, Pacific Gas and Electric Company (PG&E) tendered for filing a Request for Deferral of Consideration of its October 1, 2001 filing, Notice of Cancellation of PG&E First Revised Rate Schedule FERC No. 215, Must-Run Service Agreement between PG&E and the California Independent System Operator Corporation for the FMC Synchronous Condenser/ Emergency Gas Turbine, in Docket No. ER02-4-000.

Copies of this filing have been served upon the California Public Utilities Commission and all parties designated on the official service list in this proceeding.

Comment date: December 6, 2001, in accordance with Standard Paragraph E at the end of this notice.

10. Wisconsin Public Service Corporation

[Docket No. ER02-291-001]

Take notice that on November 15, 2001, Wisconsin Public Service Corporation (WPSC) tendered for filing four revised rate schedule sheets (Revised Sheets) which provide the American Transmission Company, LLC (ATCLLC) Site Representative information for WPSC's Rate Schedule FERC Nos. 64, 65, 66, and 67 filed in this docket on November 8, 2001.

WPSC respectfully requests that the Revised Sheets become effective as of December 15, 2001, the same effective date WPSC requested in its November 8, 2001 filing.

Copies of the filing were served upon ATCLLC and the Public Service Commission of Wisconsin.

Comment date: December 6, 2001, in accordance with Standard Paragraph E at the end of this notice.

11. FPL Energy Upton Wind II, LP

[Docket No. QF02-8-000]

Take notice that on November 13, 2001, FPL Energy Upton Wind II, LP, 11760 US Highway One, Juno Beach, FL 33408 filed with the Federal Energy Regulatory Commission (Commission) an application for certification of a facility as a qualifying small power production facility pursuant to 292.207(b) of the Commission's regulations. No determination has been made that the submittal constitutes a complete filing.

The Facility is a wind-powered generation facility consisting of 61 wind turbine generators located in Upton County, Texas.

It is expected that electricity from the Facility will be sold to Reliant Energy Renewables, Inc. of Houston, Texas. The Facility will be interconnected with the West Texas Utilities Company transmission system, and West Texas Utilities Company will provide backup power to the Facility.

Comment date: December 7, 2001, in accordance with Standard Paragraph E at the end of this notice.

12. FPL Energy Pecos Wind I, LP

[Docket No. QF02-9-000]

Take notice that on November 13, 2001, FPL Energy Pecos Wind I, LP, 11760 US Highway One, Juno Beach, FL 33408 filed with the Federal Energy Regulatory Commission (Commission) an application for certification of a facility as a qualifying small power production facility pursuant to 292.207(b) of the Commission's regulations. No determination has been made that the submittal constitutes a complete filing.

The Facility is a wind-powered generation facility consisting of 121 wind turbine generators located in Pecos County, Texas.

It is expected that electricity from the Facility will be sold to TXU Electric Company of Dallas, Texas. The Facility will be interconnected with the West Texas Utilities Company transmission system, and West Texas Utilities Company will provide backup power to the Facility.

Comment date: December 7, 2001, in accordance with Standard Paragraph E at the end of this notice.

13. The Dow Chemical Company

[Docket No. QF02-10-000]

Take notice that on November 13, 2001, The Dow Chemical Company (Dow) filed with the Federal Energy Regulatory Commission (Commission) an application for certification of a facility as a qualifying cogeneration facility pursuant to section 292.207(b) of the Commission's regulations. No determination has been made that the submittal constitutes a complete filing.

The facility will be an approximately 897 megawatt combined cycle cogeneration facility, primarily fired by natural gas (the Facility) and will be located in Plaquemine, Louisiana, at the site of Dow's chemical manufacturing plant. The Facility will be leased to, and operated by, Dow. Thermal energy from the Facility will be used by Dow. The Facility will be interconnected with the Entergy Louisiana, Inc. transmission system.

Comment date: December 7, 2001, in accordance with Standard Paragraph E at the end of this notice.

Standard Paragraph

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-29308 Filed 11-23-01; 8:45 am]

BILLING CODE 6717-01-P